DEPARTMENT OF LABOR

Employment and Training Administration

[TA-W-52,636]

Hilti North America, A Division of Hilti Corporation, Plant 5, Tulsa, OK; Notice of Termination of Investigation

Pursuant to section 221 of the Trade Act of 1974, as amended, an investigation was initiated on August 21, 2003 in response to a petition filed on behalf of workers at Hilti North America, a division of Hilti Corporation, Plant 5, Tulsa, Oklahoma.

The petitioners have requested that the petition be withdrawn. Consequently, the investigation has been terminated.

Signed at Washington, DC this 27th day of August, 2003.
Linda G. Poole,
Certifying Officer, Division of Trade Adjustment Assistance.

[FR Doc. 03-24709 Filed 9-29-03; 8:45 am]

BILLING CODE 4510-30-P